DEPARTMENT OF THE INTERIOR

Fish and Wildlife Service

[FWS-R8-FHC-2014-N243: FXFR1334088TWG0W4-123-FF08EACT00]

Trinity Adaptive Management Working Group; Public Meeting and Teleconference

AGENCY: Fish and Wildlife Service, Interior.

ACTION: Notice.

SUMMARY: We, the U.S. Fish and Wildlife Service, announce a public meeting of the Trinity Adaptive Management Working Group (TAMWG). The TAMWG is a Federal advisory committee that affords stakeholders the opportunity to give policy, management, and technical input concerning Trinity River (California) restoration efforts to the Trinity Management Council (TMC). The TMC interprets and recommends policy, coordinates and reviews management actions, and provides organizational budget oversight.

DATES: Public meeting: TAMWG will meet from 9:30 a.m. to 4:30 p.m. Pacific Time on Monday, December 15, 2014, and from 9 a.m. to 3 p.m. Pacific Time on Tuesday, December 16, 2014. Deadlines: For deadlines on submitting written material, please see “Public Input” under SUPPLEMENTARY INFORMATION.

ADDRESSES: The in-person meeting will be held at the Weaverville Fire District, 125 Bremer Street, Weaverville, CA 96093.

FOR FURTHER INFORMATION CONTACT: Elizabeth W. Hadley, Redding Electric Utility, 777 Cypress Avenue, Redding, CA 96001; telephone: 530-339-7327; email: ehadley@reupower.com; or Joseph C. Polos, U.S. Fish and Wildlife Service, 1655 Heindon Road, Arcata, CA 95521; telephone: 707-822-7201; joe_polos@fws.gov. Individuals with a disability may request an accommodation by sending an email to the one of the points of contact, and those accommodations will be provided.

SUPPLEMENTARY INFORMATION: In accordance with the requirements of the Federal Advisory Committee Act, 5 U.S.C. App., we announce that the Trinity Adaptive Management Working Group (TAMWG) will hold a meeting.

Background

The TAMWG affords stakeholders the opportunity to give policy, management, and technical input concerning Trinity River (California) restoration efforts to the Trinity Management Council (TMC). The TMC interprets and recommends policy, coordinates and reviews management actions, and provides organizational budget oversight.

Meeting Agenda

• Designated Federal Officer (DFO) updates,

• TMC Chair update,

• Executive Director's update,

• TRRP workgroup/Science Coordinator update,

• Implementation update,

• Phase 1 workshop summary presentation,

• TAMWG Information Needs and Communication Discussion,

• TAMWG objectives identification discussion,

• Potential hole filling associated with Dutch Creek restoration site,

• Addition of Humboldt County to the TMC,

• TMC current issues, and

• Public Comment.

The final agenda will be posted on the Internet at http://www.fws.gov/arcata.

Public Input
If you wish to | You must contact Elizabeth Hadley (FOR FURTHER INFORMATION CONTACT) no later than
Submit written information or questions for the TAMWG to consider during the meeting | December 8, 2014.

Submitting Written Information or Questions

Interested members of the public may submit relevant information or questions for the TAMWG to consider during the meeting. Written statements must be received by the date listed in “Public Input,” so that the information may be available to the TAMWG for their consideration prior to this meeting. Written statements must be supplied to Elizabeth Hadley in one of the following formats: One hard copy with original signature, one electronic copy with original signature, and one electronic copy via email (acceptable file formats are Adobe Acrobat PDF, MS Word, PowerPoint, or rich text file).

Registered speakers who wish to expand on their oral statements, or those who wished to speak but could not be accommodated on the agenda, may submit written statements to Elizabeth Hadley up to 7 days after the meeting.

Meeting Minutes

Summary minutes of the meeting will be maintained by Elizabeth Hadley (see FOR FURTHER INFORMATION CONTACT). The draft minutes will be available for public inspection within 15 days after the meeting, and will be posted on the TAMWG Web site at http://www.fws.gov/arcata.

Dated: November 18, 2014.
Joseph C. Polos,
Supervisory Fish Biologist, Arcata Fish and Wildlife Office, Arcata, California.

[FR Doc. 2014-27764 Filed 11-24-14; 8:45 am]

BILLING CODE 4310-55-P